DEPARTMENT OF AGRICULTURE

U.S. Codex Office

Codex Alimentarius Commission: Meeting of the Codex Committee on Food Labelling

AGENCY: U.S. Codex Office, USDA.

ACTION: Notice of public meeting and request for comments.

SUMMARY: The U.S. Codex Office is sponsoring a public meeting on Tuesday, April 11, 2023, 1:00-4:00 p.m. EDT. The objective of the public meeting is to provide information and receive public comments on agenda items and draft U.S. positions to be discussed at the 47th Session of the Codex Committee on Food Labelling (CCFL) of the Codex Alimentarius Commission, which will meet in Gatineau, Canada, May 15-19, 2023. The U.S. Manager for Codex Alimentarius and the Under Secretary for Trade and Foreign Agricultural Affairs recognize the importance of providing interested parties the opportunity to obtain background information on the 47th Session of the CCFL and to address items on the agenda.

DATES: The public meeting is scheduled for April 11, 2023, from 1:00-4:00 p.m. EDT.

ADDRESSES: The public meeting will take place via Video Teleconference only. Documents related to the 47th Session of the CCFL will be accessible via the internet at the following address: https://www.fao.org/fao-who-codexalimentarius/meetings/detail/en/?meeting=CCFL&session=47.

Dr. Douglas Balentine, U.S. Delegate to the 47th Session of the CCFL, invites interested U.S. parties to submit their comments electronically to the following email address: douglas.balentine@fda.hhs.gov.

Registration: Attendees may register to attend the public meeting here: https://www.zoomgov.com/meeting/register/vJIsc--upjwsHXeBUO4dR9xL9gyNKRgIcFs. After registering, you will receive a confirmation email containing information about joining the meeting.

For further information about the 47th Session of the CCFL, contact U.S. Delegate, Dr. Douglas Balentine, Senior Science Advisor, International Nutrition Policy, Center for Food Safety and Applied Nutrition, U.S. Food and Drug Administration, 5001 Campus Drive (HFS-830), College Park, MD 20740; phone: +1 (240) 672-7292; email: douglas.balentine@fda.hhs.gov. For further information about the public meeting, contact the U.S. Codex Office by email at: uscodex@usda.gov.

SUPPLEMENTARY INFORMATION:

Background

Codex was established in 1963 by two United Nations organizations, the Food and Agriculture Organization (FAO) and the World Health Organization (WHO). Through adoption of food standards, codes of practice, and other guidelines developed by its committees, and by promoting their adoption and implementation by governments, Codex seeks to protect the health of consumers and ensure fair practices in the food trade.

The Terms of Reference of the Codex Committee on Food Labelling are:

(a) to draft provisions on labeling applicable to all foods;

(b) to consider, amend if necessary, and endorse draft specific provisions on labeling prepared by the Codex Committees drafting standards, codes of practice and guidelines;

(c) to study specific labeling problems assigned to it by the Commission; and

(d) to study problems associated with the advertisement of food with particular reference to claims and misleading descriptions.

The CCFL is hosted by Canada. The United States attends the CCFL as a member country of Codex.

Issues To Be Discussed at the Public Meeting

The following items on the Agenda for the 47th Session of the CCFL will be discussed during the public meeting:

• Matters referred to the Committee by the Codex Alimentarius Commission and/or other subsidiary bodies

• Matters of interest arising from FAO and WHO

• Consideration of labelling provisions in draft Codex standards (endorsement)

• Food Allergen Labelling

• Proposed draft revision to the General Standard for the Labelling of Prepackaged Foods—Provisions relevant to allergen labelling

• Proposed draft Guidance on Precautionary Allergen Labelling

• Proposed draft Guidance on the Provision of Food Information for Prepackaged Foods to be Offered via e-commerce: Amendment to the General Standard for the Labelling of Prepackaged Foods (supplementary text)

• Proposed draft Guidelines on the Use of Technology to Provide Food Information: Amendment to the General Standard for the Labelling of Prepackaged Foods

• Discussion Paper on the Labelling of alcoholic beverages

• Discussion Paper on the Labelling of foods in joint presentation and multipack formats

• Discussion Paper on Labelling exemptions in emergency situations

• Discussion Paper on Trans fatty acids

• Discussion Paper on the Sustainability labelling claims

• Discussion Paper on Future work and direction of CCFL

• Approach and criteria for evaluation and prioritization of work of CCFL

Public Meeting

At the April 11, 2023 public meeting, draft U.S. positions on the agenda items will be described and discussed, and attendees will have the opportunity to pose questions and offer comments. Written comments may be offered at the meeting or sent to Dr. Douglas Balentine, U.S. Delegate for the 47th Session of the CCFL (see ADDRESSES). Written comments should state that they relate to activities of the 47th Session of the CCFL.

Additional Public Notification

Public awareness of all segments of rulemaking and policy development is important. Consequently, the U.S. Codex Office will announce this Federal Register publication on-line through the USDA web page located at: http://www.usda.gov/codex/, a link that also offers an email subscription service providing access to information related to Codex. Customers can add or delete their subscription themselves and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at https://www.usda.gov/oascr/filing-program-discrimination-complaint-usda-customer, or write a letter signed by you or your authorized representative. Send your completed complaint form or letter to USDA by mail, fax, or email. Mail: U.S. Department of Agriculture, Director, Office of Adjudication, 1400 Independence Avenue SW, Washington, DC 20250-9410; Fax: (202) 690-7442; Email: program.intake@usda.gov. Persons with disabilities who require alternative means for communication (Braille, large print, audiotape, etc.) should contact USDA's TARGET Center at (202) 720-2600 (voice and TDD).

Done at Washington, DC, on March 3, 2023.
Mary Frances Lowe,
U.S. Manager for Codex Alimentarius.

[FR Doc. 2023-04801 Filed 3-8-23; 8:45 am]

BILLING CODE P